DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: 2019 National Survey on Drug Use and Health (OMB No. 0930-0110)—Extension

The National Survey on Drug Use and Health (NSDUH) is a survey of the U.S. civilian, non-institutionalized population aged 12 years old or older. The data are used to determine the prevalence of use of tobacco products, alcohol, illicit substances, and illicit use of prescription drugs. The results are used by SAMHSA, the Office of National Drug Control Policy (ONDCP), federal government agencies, and other organizations and researchers to establish policy, to direct program activities, and to better allocate resources.

This is an extension to the 2019 National Survey on Drug Use and Health (NSDUH). There are no substantive changes to the questionnaire or changes in burden. The 2019 NSDUH will continue to include questions on medication-assisted treatment (MAT) and kratom.

As with all NSDUH surveys conducted since 1999, including those prior to 2002 when the NSDUH was referred to as the National Household Survey on Drug Abuse, the sample size of the survey for 2019 will be sufficient to permit prevalence estimates for each of the 50 states and the District of Columbia. The total annual burden estimate is shown below in Table 1.

Table 1—Annualized Estimated Burden for 2019 NSDUH
Instrument | Number of respondents | Responses per respondent | Total number of responses | Hours per response | Total burden hours
Household Screening | 137,231 | 1 | 137,231 | 0.083 | 11,390
Interview | 67,507 | 1 | 67,507 | 1.000 | 67,507
Screening Verification | 4,116 | 1 | 4,116 | 0.067 | 276
Interview Verification | 10,126 | 1 | 10,126 | 0.067 | 678
Total | 137,231 |  | 218,980 |  | 79,851

Written comments and recommendations concerning the proposed information collection should be sent by March 4, 2019 to the SAMHSA Desk Officer at the Office of Information and Regulatory Affairs, Office of Management and Budget (OMB). To ensure timely receipt of comments, and to avoid potential delays in OMB's receipt and processing of mail sent through the U.S. Postal Service, commenters are encouraged to submit their comments to OMB via email to: OIRA_Submission@omb.eop.gov. Although commenters are encouraged to send their comments via email, commenters may also fax their comments to: 202-395-7285. Commenters may also mail them to: Office of Management and Budget, Office of Information and Regulatory Affairs, New Executive Office Building, Room 10102, Washington, DC 20503.

Summer King,
Statistician.

[FR Doc. 2019-00419 Filed 1-30-19; 8:45 am]

BILLING CODE 4162-20-P